DEPARTMENT OF JUSTICE

Notice of Filing of Proposed Stipulation and Settlement Agreement Under the Resource Conservation and Recovery Act

On January 12, 2016, a proposed Stipulation and Settlement Agreement establishing an Environmental Response Trust for the Gulfport, Mississippi Facility (“Gulfport Settlement Agreement”) was filed with the United States Bankruptcy Court for the District of Delaware in the bankruptcy proceeding entitled In re Reichhold Holdings US, Inc., No. 14-12237-MFW (Bankr. D. Del.).

Under the proposed Gulfport Settlement Agreement, an Environmental Response Trust will be created to take title to certain property owned by Reichhold Inc., located in Gulfport, Mississippi. The Environmental Response Trust will perform certain environmental actions with respect to the property. The Environmental Response Trust will receive the proceeds of a letter of credit in the approximate amount of $3.5 million and $750,000 provided by the Debtor. The Gulfport Settlement Agreement includes covenants not to sue under the Resource Conservation and Recovery Act (“RCRA”), 42 U.S.C. 6901 et seq.

The publication of this notice opens a period for public comment on the Gulfport Settlement Agreement. Comments should be addressed to the Assistant Attorney General, Environment and Natural Resources Division, and should refer to In re Reichhold Holdings US, Inc.,—Gulfport Environmental Response Trust—D.J. Ref. No. 90-11-2-11196. All comments must be submitted so that they are received no later than midnight (Eastern Time) January 29, 2016. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Settlement Agreement may be examined and downloaded at this Justice Department Web site: http://www.justice.gov/enrd/consent-decrees. We will provide a paper copy of the Settlement Agreement—Gulfport upon written request and payment of reproduction costs. Please mail your request and payment to: Consent Decree Library, U.S. DOJ—ENRD, P.O. Box 7611, Washington, DC 20044-7611.

Please enclose a check or money order for $15.00 (25 cents per page reproduction cost) payable to the United States Treasury.

Henry Friedman,
Assistant Section Chief, Environmental Enforcement Section, Environment and Natural Resources Division.

[FR Doc. 2016-00742 Filed 1-14-16; 8:45 am]

BILLING CODE 4410-15-P